DEPARTMENT OF LABOR

Occupational Safety and Health Administration

[Docket No. ICR-1218-0085 (2005)]

13 Carcinogens Standard; Extension of the Office of Management and Budget's Approval of Information Collection Requirements

AGENCY: Occupational Safety and Health Administration (OSHA), Labor.

ACTION: Request for public comment.

SUMMARY: OSHA solicits public comment concerning its request for an extension of the information collection (paperwork) requirements contained in the 13 Carcinogens Standard (29 CFR 1910.1003).

DATES: Comments must be submitted by the following dates:

Hard Copy: Your comments must be submitted (postmarked or received ) by December 19, 2005.

Facsimile and electronic transmission: Your comments must be received by December 19, 2005.

ADDRESSES: You may submit comments, identified by OSHA Docket No. [ICR-1218-0085 (2005)], by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 or fewer pages, including attachments, you may fax them to OSHA Docket Office at (202) 693-1648.

Electronic: You may submit comments through the Internet at http://comments.osha.gov, Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Todd Owen at the address below to obtain a copy of the ICR. For additional information on submitting comments, please see the “Public Participation” heading in the supplementary information section of this document.

FOR FURTHER INFORMATION CONTACT: Todd Owen, Directorate of Standards and Guidance, OSHA, Room N-3609, 200 Constitution Avenue, NW., Washington, DC 20210, telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (29 U.S.C. 657).

The 13 Carcinogens Standard covers the following carcinogens: 4-Nitrobiphenyl (§ 1910.1003), alpha-Naphthylamine (§ 1910.1004), Methyl chloromethyl ether (§ 1910.1006), 3,3′-Dichlorobenzidine (and its salts) (§ 1910.1007), bis-Chloromethyl ether (§ 1910.1008), beta-Naphthylamine (§ 1910.1009), Benzidine (§ 1910.1010), 4-Aminodiphenyl (§ 1910.1011), Ethyleneimine (§ 1910.1012), beta-Propiolactone (§ 1910.1013), 2-Acetylaminofluorene (§ 1910.1014), 4-Dimethylaminoazobenzene (§ 1910.1015), and N-Nitrosodimethylamine (§ 1910.1016). For purposes of this ICR, reference to 29 CFR 1910.1003 also incorporates the 13 Carcinogens Standard for Shipyards (29 CFR 1915.1003-.1016) and Construction (29 CFR 1926.1103-1116), whose requirements are identical to those contained in § 1910.1003.

The information collection requirements specified in the 13 Carcinogens Standard protect employees from the adverse health effects that may result from exposure to any of the 13 carcinogens. The major information collection requirements of the 13 Carcinogens Standard include: establishing and implementing respiratory protection and medical surveillance programs for employees assigned to or being considered for assignment to regulated areas; maintaining complete and accurate records of the respiratory protection programs and medical surveillance; providing employees with records of all medical examination results; and posting warning signs and information. In addition, employers must retain employee medical records for specified time periods, provide these records to OSHA and the National Institute for Occupational Safety and Health (NIOSH) upon request, and transfer them to NIOSH under certain circumstances.

In 1998, the Standard's respiratory protection program requirements were revised as part of the Respiratory Protection rulemaking (63 FR 1286 (1/8/1998)). The information collection requirements pertaining to the respiratory protection requirements in the 13 Carcinogens Standard and the burden associated with those requirements were included in the Respiratory Protection final rule (63 FR 1152-54) (OMB Control Number 1218-0099 (2001 and 2004)). Accordingly, they are not included in this ICR.

Also, this ICR does not include collection of information requirements or burden hours and costs for providing operation and incident reports to OSHA. OSHA deleted these requirements in the Standards Improvement Project—Phase II final (70 FR 1112 (1/5/2005)).

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the information collection requirements necessitated by the 13 Carcinogens Standard. In its extension request, OSA also is proposing to increase the total burden hours for these requirements from 1,634 to 1,657 hours, a total increase of 23 hours. The burden hour increase results from increasing the estimated number of employees who will request access to their medical records. The Agency will summarize the public comments submitted in response to this notice and will include this summary in its request to OMB to extend the approval of these information collection requirements.

Type of Review: Extension of currently approved information collection requirements.

Title: 13 Carcinogens Standard.

OMB Number: 1218-0085.

Affected Public: Business or other for-profits; Federal Government; State, Local or Tribal Government; not-for-profit institutions.

Frequency: On occasion, annually.

Average Time Per Response: Time per response ranges from approximately 5 minutes (for employers to maintain records) to 2 hours for employees to receive a medical examination.

Estimated Total Burden Hours: 1,657.

Estimated Cost (Operation and Maintenance): $86,226.

IV. Public Participation—Submission of Comments on This Notice and Internet Access to Comments and Submissions

You may submit comments and supporting materials in response to this notice by (1) hard copy, (2) FAX transmission (facsimile), or (3) electronically through the OSHA Web page. Because of security-related problems, there may be a significant delay in the receipt of comments sent by regular mail. Please contact the OSHA Docket Office at (202) 693-2350 (TTY (877) 889-5627) for information about security procedures concerning the delivery of submissions by express delivery, hard delivery and courier service.

All comments, submissions and background documents are available for inspection and copying at the OSHA Docket Office at the above address. Comments and submissions posted on OSHA's Web page are available at http://www.OSHA.gov. Contact the OSHA docket Office for information about materials not available through the OSHA Web page and for assistance using the Web page to locate docket submissions.

Electronic copies of this Federal Register notice as well as other relevant documents are available on OSHA's Web page. Because submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Dated: Signed at Washington, DC, on October 12, 2005.
Jonathan L. Snare,
Acting Assistant Secretary of Labor.

[FR Doc. 05-20868 Filed 10-18-05; 8:45 am]

BILLING CODE 4510-26-M